SECURITIES AND EXCHANGE COMMISSION

[Release Nos. 34-100451; File Nos. PCAOB-2024-01, PCAOB-2024-02]

Public Company Accounting Oversight Board; Extension of Comment and Approval Periods for Proposed Rules on General Responsibilities of the Auditor in Conducting an Audit and Amendments to PCAOB Standards and A Firm's System of Quality Control and Related Amendments to PCAOB Standards

July 1, 2024.

On June 5, 2024, the Public Company Accounting Oversight Board (“PCAOB”) filed with the Securities and Exchange Commission (“Commission”), pursuant to section 19(b)(1) of the Securities Exchange Act of 1934 (“Act”) ¹ and Rule 19b-4 thereunder,² the proposed rules referenced above (collectively, the “proposed rules”). The proposed rules were published for comment in the Federal Register on June 11, 2024.³ The Commission provided a 21-day public comment period for the proposed rules,⁴ which is scheduled to end on July 2, 2024.

¹ 15 U.S.C. 78s(b)(1).

² 17 CFR 240.19b-4.

³ See Securities Exchange Act Release Nos. 34-100276 and 34-100277 (June 5, 2024) [89 FR 49730 and 89 FR 49588 (June 11, 2024)].

⁴ See id.

Section 19(b)(2) of the Act ⁵ provides that no later than 45 days after the date of the publication of notice of the filing of a proposed rule change, or within such longer period up to 90 days as the Commission may designate if it finds such longer period to be appropriate and publishes its reasons for so finding or as to which the self-regulatory organization ⁶ consents, the Commission shall either approve or disapprove the proposed rule change, or institute proceedings to determine whether the proposed rule change should be disapproved. The 45th day after publication of the notice for the proposed rules is July 26, 2024.

⁵ 15 U.S.C. 78s(b)(2).

⁶ The term “self-regulatory organization” includes a “registered securities association.” See section 3(a)(26) of the Act. Section 107(b)(4) of the Sarbanes-Oxley Act of 2002 states that the provisions of section 19(b)(1)-(3) of the Act shall govern the proposed rules of the PCAOB as fully as if the PCAOB were a registered securities association for purposes of that Section.

To provide additional time for public comment on the proposed rules and the issues raised therein, the Commission has determined to extend the comment period for the proposed rules for an additional 14 days. To accommodate the longer comment period and consideration of such comments, the Commission finds it appropriate to also extend the time period within which the Commission must take action on the proposed rules for up to 30 days. Accordingly, the Commission is extending the public comment period until July 16, 2024, and, pursuant to section 19(b)(2) of the Act,⁷ extends the date by which the Commission shall either approve or disapprove, or institute proceedings to determine whether to disapprove, the proposed rules to August 25, 2024 (File Nos. PCAOB-2024-01, PCAOB-2024-02).

⁷ 15 U.S.C. 78s(b)(2).

For the Commission, by the Office of the Chief Accountant.
Vanessa A. Countryman,
Secretary.

[FR Doc. 2024-14819 Filed 7-5-24; 8:45 am]

BILLING CODE 8011-01-P